DEPARTMENT OF ENERGY

Federal Energy Regulatory Commission

Combined Notice of Filings

Take notice that the Commission has received the following Natural Gas Pipeline Rate and Refund Report filings:

Filings Instituting Proceedings

Docket Numbers: RP13-278-000.

Applicants: Antero Resources Piceance LLC.

Description: Joint Petition for Temporary Waiver of Antero Resources Piceance LLC and Ursa Piceance LLC.

Filed Date: 11/14/12.

Accession Number: 20121114-5168.

Comments Due: 5 p.m. ET 11/26/12.

Docket Numbers: RP13-279-000.

Applicants: Texas Eastern Transmission, LP.

Description: Contracting Processes Nov2012 Filing to be effective 1/1/2013.

Filed Date: 11/15/12.

Accession Number: 20121115-5051.

Comments Due: 5 p.m. ET 11/27/12.

Docket Numbers: RP13-280-000.

Applicants: Algonquin Gas Transmission, LLC.

Description: Contracting Processes Nov2012 Filing to be effective 1/1/2013.

Filed Date: 11/15/12.

Accession Number: 20121115-5052.

Comments Due: 5 p.m. ET 11/27/12.

Docket Numbers: RP13-281-000.

Applicants: Big Sandy Pipeline, LLC.

Description: Contracting Processes Nov2012 Filing to be effective 1/1/2013.

Filed Date: 11/15/12.

Accession Number: 20121115-5053.

Comments Due: 5 p.m. ET 11/27/12.

Docket Numbers: RP13-282-000.

Applicants: Steckman Ridge, LP.

Description: Contracting Processes Nov2012 Filing to be effective 1/1/2013.

Filed Date: 11/15/12.

Accession Number: 20121115-5054.

Comments Due: 5 p.m. ET 11/27/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-91-001.

Applicants: Questar Pipeline Company.

Description: Order 587-V Compliance Filing, Revised Section 26 to be effective 12/1/2012.

Filed Date: 11/14/12.

Accession Number: 20121114-5104.

Comments Due: 5 p.m. ET 11/26/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: November 15, 2012.
Nathaniel J. Davis, Sr.,
Deputy Secretary.

[FR Doc. 2012-28401 Filed 11-21-12; 8:45 am]

BILLING CODE 6717-01-P&